DEPARTMENT OF DEFENSE

Department of the Navy

[Docket ID USN-2022-HQ-0019]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by January 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: USMC Dependency Statement Child Born Out of Wedlock Under Age 21; NAVMC Form 1750/13; OMB Control Number 0703-DEPE.

Type of Request: New.

Number of Respondents: 20.

Responses per Respondent: 1.

Annual Responses: 20.

Average Burden per Response: 75 minutes.

Annual Burden Hours: 25.

Needs and Uses: The NAVMC Form 1750/13, “USMC Dependency Statement Child Born Out of Wedlock Under Age 21,” is necessary to assist USMC Installation command representatives and the Marine and Family Programs Division Dependency Determination Section (MFP-1) in properly making informed Basic Allowance for Housing (BAH) entitlement determinations for claimed children under the age of 21 who are born out of wedlock to non-service member partners and do not reside within the household of the service member. The collection provides formal documentation and respondent attestation of overall financial support case facts, which is a particularly critical piece of documentation in cases where the legitimacy of primary dependency status or service member BAH entitlement claim is deemed questionable to the USMC.

Affected Public: Individuals or households.

Frequency: On occasion.

Respondent's Obligation: Required to Obtain or Retain Benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: December 20, 2022.
Aaron T. Siegel,
Alternate OSD Federal Register Liaison Officer, Department of Defense.

[FR Doc. 2022-28032 Filed 12-22-22; 8:45 am]

BILLING CODE 3810-FF-P